DEPARTMENT OF LABOR

Occupational Safety and Health Administration

National Advisory Committee on Occupational Safety and Health (NACOSH); notice of Meeting

AGENCY: Occupational Safety and Health Administration, (OSHA), Labor.

ACTION: National Advisory Committee on Occupational Safety and Health (NACOSH); notice of meeting.

SUMMARY: Congress created NACOSH to advise the Secretary of Labor and the Secretary of Health and Human Services on matters relating to the administration of the Occupational Safety and Health Act of 1970. The purpose of this Federal Register notice is to announce the upcoming NACOSH meeting. The Agenda items for the meeting will include updates on activities of both the Occupational Safety and Health Administration (OSHA) and the National Institute for Occupational Safety and Health (NIOSH). Presentation will also be made on the following: National Occupational Research Agenda (NORA); Cooperative Programs; Enforcement Update; Standards Update; and Cranes and Derricks Small Business Regulatory Enforcement Fairness Act (SBREFA) Update.

DATES: NACOSH will meet on Tuesday, November 28, 2006, from 9 a.m. to approximately 4:30 p.m.

ADDRESSES: The meeting will take place in Room N3437 A, B, and C, of the Frances Perkins Department of Labor Building, located at 200 Constitution Avenue, NW., Washington, DC.

FOR FURTHER INFORMATION CONTACT: For additional information, please contact Deborah Crawford, 202-693-1932, Occupational Safety and Health Administration, Room N-3641, 200 Constitution Avenue, NW., Washington, DC 20210; telephone: (202) 693-1932; fax: (202) 693-1641; e-mail: Crawford.Deborah@dol.gov. Individuals with disabilities who need special accommodations and wish to attend the meeting should contact: Veneta Chatmon, phone: (202) 693-1634 at least one week prior to the meeting.

SUPPLEMENTARY INFORMATION: The NACOSH meeting is open to the public. All interested persons are invited to attend the NACOSH meeting at the time and location listed above. Anyone wishing to attend this meeting must be prepared to exhibit photo identification and sign-in at the Frances Perkins Department of Labor Building for authorization to enter the meeting area.

Public Participation: Written data, views or comments for consideration by the committee may be submitted, preferably with 20 copies, to Deborah Crawford at the address provided above. Any such submissions received prior to the meeting will be provided to the members of the committee and will be included in the record of the meeting. Because of the need to cover a wide variety of subjects in a short period of time, there is usually insufficient time on the agenda for members of the public to address the committee orally. However, any such requests will be considered by the Chair who will determine whether or not time permits. Any request to make an oral presentation should state the amount of time desired, the capacity in which the person would appear, and a brief outline of the content of the presentation. An official record of the meeting will be available for public inspection in the OSHA Technical Data Center (TDC) located in Room N2625 at the Frances Perkins Department of Labor Building, telephone: (202) 693-2350 or check the National Advisory Committee on Occupational Safety and Health information pages located at http://www.osha.gov/dop/nacosh/nacosh.html.

Edwin G. Foulke, Jr.,
Assistant Secretary of Labor.

[FR Doc. E6-18645 Filed 11-3-06; 8:45 am]

BILLING CODE 4510-26-P